DEPARTMENT OF TRANSPORTATION

Federal Motor Carrier Safety Administration

49 CFR Parts 350, 390, 394, 395 and 398

[Docket No. FMCSA-97-2350]

RIN 2126-AA232

Public Hearings on Hours of Service of Drivers; Driver Rest and Sleep for Safe Operations

AGENCY: Federal Motor Carrier Safety Administration (FMCSA), DOT.

ACTION: Notice of hearings.

SUMMARY: The FMCSA is announcing the second through seventh public hearings for interested persons to present comments and views on the FMCSA's proposed revisions to its hours-of-service regulations (65 FR 25540, May 2, 2000). This action is necessary to inform the public about the dates, times, and locations of the hearings. The FMCSA hopes to hear from the public, specifically drivers of trucks and buses, about how the proposed hours-of-service regulations would improve highway safety and affect their professional, personal, and family life. All oral presentations will be transcribed and placed in the rulemaking docket for the FMCSA's consideration.

DATES: The second hearing will be June 7 and 8 in Ontario, CA. Subsequent hearings will be June 12 and 13 in Golden, CO; June 15 and 16 in Kansas City, MO; June 20 and 21 in Indianapolis, IN; June 26 and 27 in Vernon, CT; and June 29 and 30 in Atlanta, GA. All will begin at 8:30 a.m. and end at 5 p.m.

ADDRESSES: The second session will be at the Ontario Convention Center, Meeting Room 104B, 2000 Convention Center Way, Ontario, CA. The third will be held at Auditorium 2, Jefferson County Fairgrounds, 15200 West Sixth Avenue, Golden, CO. The fourth will be at the Wagstaff Theater, American Royal Center Complex, 1701 American Royal Court, Kansas City, MO. The fifth will be at the Union Federal Southwest Pavilion, Indiana State Fairgrounds, 1202 East 38th Street, Indianapolis, IN. The sixth will be at the Quality Inn Conference Center, 51 Hartford Turnpike (Route 83, I-84, Exit 63), Vernon, CT. The seventh will be at the Atlanta South Truck Stop, 122 Truck Stop Way (I-75, Exit 201), Jackson, GA.

FOR FURTHER INFORMATION CONTACT: General Information. For general information or if you have special needs contact Mr. Stanley Hamilton, Office of Regulatory Development, (202) 366-0665. Specific Information. For information concerning the rulemaking contact Mr. David Miller, Office of Driver and Carrier Operations, (202) 366-1790, or Mr. Charles Medalen, Office of the Chief Counsel, (202) 366-1354.

SUPPLEMENTARY INFORMATION:

Electronic Access

Internet users may access all comment received by the U.S. DOT Dockets, Room PL-401, by using the universal resource locator (URL): http://dms.dot.gov. It is available 24 hours each day, 365 days a year. Please follow the instructions on line for more information and help.

An electronic copy of this document may be downloaded by using a computer, modem and suitable communications software from the Government Printing Office's Electronic Bulletin Board Service at (202) 512-1661. Internet users may reach the Office of the Federal Register's web page at http://www.access.gpo.gov/nara. Internet users may also find this document at the FMCSA's Motor Carrier Regulatory Information Service (MCREGIS) web site for notices at ­ http://www.fmcsa.dot.gov/rulesregs/fmcsr/rulemakings.htm.

First Hearing Notice

The notice for the first hearing was published May 5, 2000 (65 FR 26166). The first hearing will be in Washington, DC on May 31 and June 1 at the DOT headquarters, Room 2230, 400 Seventh Street, SW 20590.

Accessibility Needs

If you need special accommodations, such as sign language interpretation, please contact Mr. Stanley Hamilton, Office of Regulatory Development, (202) 366-0665.

Oral and Written Comments

Oral comments should be limited to 10 minutes or less. Written comments must be sent to: Docket Clerk, Attn: DOT Docket No. FMCSA-97-2350, U.S. DOT Dockets, Department of Transportation, Room PL-401, 400 Seventh Street, SW., Washington, DC 20590-0001. Persons who require acknowledgment of the receipt of their comments must enclose a stamped, self-addressed postcard. Comments may be reviewed at the above address from 9 a.m. through 5 p.m. Monday through Friday, except Federal holidays.

Authority: 49 U.S.C. 322, 31502, and 31136; and 49 CFR 1.73.

Issued on: May 15, 2000.
Julie Anna Cirillo,
Acting Deputy Administrator.

[FR Doc. 00-12736 Filed 5-19-00; 8:45 am]

BILLING CODE 4910-22-P